FEDERAL DEPOSIT INSURANCE CORPORATION

Agency Information Collection Activities: Submission for OMB Review; Comment Request (OMB No. 3064-0153)

AGENCY: Federal Deposit Insurance Corporation (FDIC).

ACTION: Notice and request for comment.

SUMMARY: The FDIC, as part of its ongoing obligations under the Paperwork Reduction Act of 1995, invites the general public and other Federal agencies to take this opportunity to comment on the renewal of the existing information collection described below (OMB No. 3064-0153). On July 28, 2020, the FDIC requested comment for 60 days on a proposal to renew the information collections described below. No comments were received. The FDIC hereby gives notice of its plan to submit to the Office of Management and Budget (OMB) a request to approve the renewal of this collection, and again invites comment on its renewal.

DATES: Comments will be accepted until November 30, 2020.

ADDRESSES: Interested parties are invited to submit written comments to the FDIC by any of the following methods:

• Agency website: https://www.FDIC.gov/regulations/laws/federal.

• Email: comments@fdic.gov. Include the name and number of the collection in the subject line of the message.

• Mail: Jennifer Jones (202-898-6768), Counsel, MB-3078, Federal Deposit Insurance Corporation, 550 17th Street NW, Washington, DC 20429.

• Hand Delivery: Comments may be hand-delivered to the guard station at the rear of the 17th Street building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Jennifer Jones, Counsel, 202-898-6768, jennjones@fdic.gov, MB-3105, Federal Deposit Insurance Corporation, 550 17th Street NW, Washington, DC 20429.

SUPPLEMENTARY INFORMATION: On July 28, 2020, the FDIC requested comment for 60 days on a proposal to renew the information collections described below. No comments were received. The FDIC hereby gives notice of its plan to submit to the Office of Management and Budget (OMB) a request to approve the renewal of this collection, and again invites comment on its renewal.

Proposal to renew the following currently approved collection of information:

1. Title: Regulatory Capital Rules.

OMB Number: 3064-0153.

Affected Public: Insured state nonmember banks and state savings associations.

Burden Estimate:

Estimated Hourly Burden
Basel III advanced approaches: Recordkeeping, disclosure, and reporting | Type of burden | Estimated number of respondents | Estimated time per response | Frequency of response | Total annual estimated burden
Implementation plan—Section __.121(b): Ongoing | Recordkeeping | 1 | 330 | On Occasion | 330
Documentation of advanced systems—Section __.122(j): Ongoing | Recordkeeping | 1 | 19 | On Occasion | 19
Systems maintenance—Sections __.122(a), __123(a), __.124(a): Ongoing | Recordkeeping | 1 | 27.90 | On Occasion | 28
Supervisory approvals—Sections __.122(d)-(h), __.132(b)(3), __.132(d)(1), __.132(d)(1)(iii): Ongoing | Recordkeeping | 1 | 16.82 | On Occasion | 17
Control, oversight and verification of systems—Sections __.122 to __.124: Ongoing | Recordkeeping | 1 | 11.05 | On Occasion | 11
(CCR)—Section __.132(b)(2)(iii)(A): One-time | Recordkeeping | 1 | 80 | On Occasion | 80
(CCR)—Section __.132(b)(2)(iii)(A): Ongoing | Recordkeeping | 1 | 16 | On Occasion | 16
(CCR)—Section __.132(d)(2)(iv): One-time | Recordkeeping | 1 | 80 | On Occasion | 80
(CCR)—Section __.132(d)(2)(iv): Ongoing | Recordkeeping | 1 | 40 | On Occasion | 40
(CCR)—Section __.132(d)(3)(vi): One-time | Recordkeeping | 1 | 80 | On Occasion | 80
(CCR)—Section __.132(d)(3)(viii): One-time | Recordkeeping | 1 | 80 | On Occasion | 80
(CCR)—Section __.132(d)(3)(viii) Ongoing | Recordkeeping | 1 | 10 | Quarterly | 40
(CCR)—Section __.132(d)(3)(ix): One-time | Recordkeeping | 1 | 40 | On Occasion | 40
(CCR)—Section __.132(d)(3)(ix): Ongoing | Recordkeeping | 1 | 40 | On Occasion | 40
(CCR)—Section __.132(d)(3)(x): One-time | Recordkeeping | 1 | 20 | On Occasion | 20
(CCR)—Section __.132(d)(3)(xi): One-time | Recordkeeping | 1 | 40 | On Occasion | 40
(CCR)—Section __.132(d)(3)(xi): Ongoing | Recordkeeping | 1 | 40 | On Occasion | 40
(OC)—Section __.141(b)(3), __.141(c)(1), __.141(c)(2)(i)-(ii), __.153:: One-time | Recordkeeping | 1 | 40 | On Occasion | 40
(OC)—Section __.141(c)(2)(i)-(ii): Ongoing | Recordkeeping | 1 | 10 | Quarterly | 40
Sections __.142 and __.171: Ongoing | Disclosure | 1 | 5.78 | On Occasion | 6
(CCB and CCYB)—Section __.173, Table 4 (Securitization)—Section __.173, Table 9 (IRR)—Section __.173, Table 12: Ongoing | Disclosure | 1 | 25 | Quarterly | 100
(CCB and CCYB)—Section __.173, Table 4 (Securitization)—Section __.173, Table 9 (IRR)—Section __.173, Table 12: One-time | Disclosure | 1 | 200 | On Occasion | 200
(Capital Structure)—Section __.173, Table 2: Ongoing | Disclosure | 1 | 2 | Quarterly | 8
(Capital Structure)—Section __.173, Table 2: One-time | Disclosure | 1 | 16 | On Occasion | 16
(Capital Adequacy)—Section __.173, Table 3: Ongoing | Disclosure | 1 | 2 | Quarterly | 8
(Capital Adequacy)—Section __.173, Table 3: One-time | Disclosure | 1 | 16 | On Occasion | 16
(CR) —Section __.173, Table 5: Ongoing | Disclosure | 1 | 12 | Quarterly | 48
(CR)—Section __.173, Table 5: One-time | Disclosure | 1 | 96 | On Occasion | 96
Section __.304—Opt-In Relief and Related FDIC Approval: Ongoing | Reporting | 7 | 12 | On Occasion | 84
Subtotal: One-time Recordkeeping and Disclosure |  |  |  |  | 788
Subtotal: Ongoing Recordkeeping, Disclosure, and Reporting |  |  |  |  | 875
Total Recordkeeping, Disclosure, and Reporting |  |  |  |  | 1,663

Minimum regulatory capital ratios: Recordkeeping | Type of burden | Estimated number of respondents | Estimated time per response | Frequency of response | Total annual estimated burden
(CCR Operational Requirements)—Sections __.3(d) and __.22(h)(2)(iii)(A): Ongoing | Recordkeeping | 3,270 | 16 | On Occasion | 52,320
Subtotal: One-time Recordkeeping |  |  |  |  | 0
Subtotal: Ongoing Recordkeeping |  |  |  |  | 52,320
Total Recordkeeping |  |  |  |  | 52,320

Standardized approach: Recordkeeping and disclosure | Type of burden | Estimated number of respondents | Estimated time per response | Frequency of response | Total annual estimated burden
(QCCP)—Section __.35(b)(3)(i)(A): One-time | Recordkeeping | 1 | 2 | On Occasion | 2
(QCCP)—Section __.35(b)(3)(i)(A): Ongoing | Recordkeeping | 3,270 | 2 | On Occasion | 6,540
(CT)—Section __.37(c)(4)(i)(E): One-time | Recordkeeping | 1 | 80 | On Occasion | 80
(CT)—Section __.37(c)(4)(i)(E): Ongoing | Recordkeeping | 3,270 | 16 | On Occasion | 52,320
(SE)—Section __.41(b)(3) and __.41(c)(2)(i): One-time | Recordkeeping | 1 | 40 | On Occasion | 40
(SE)—Section __.41(c)(2)(ii): Ongoing | Recordkeeping | 3,270 | 2 | On Occasion | 6,540
(S.E.)—Section __.42(e)(2), (C.R.) Sections __.62(a),(b),& (c), (Q&Q) Sections __.63(a) & (b): One-time | Disclosure | 1 | 226.25 | On Occasion | 226
(S.E.)—Section __.42(e)(2), (C.R.) Sections __.62(a),(b),& (c), (Q&Q) Sections __.63(a) & (b) and __.63 Tables: Ongoing | Disclosure | 1 | 131.25 | Quarterly | 525
Subtotal: One-time Recordkeeping and Disclosure |  |  |  |  | 348
Subtotal: Ongoing Recordkeeping and Disclosure |  |  |  |  | 65,925
Total Recordkeeping and Disclosure |  |  |  |  | 66,273
ESTIMATED COST TO RESPONDENTS ASSOCIATED WITH HOURLY BURDEN
Total One-Time Burden Hours |  |  |  |  | 1,136
Total Ongoing Burden Hours |  |  |  |  | 119,120
Total Burden Hours |  |  |  |  | 120,256

General Description of Collection: This collection comprises the disclosure and recordkeeping requirements associated with minimum capital requirements and overall capital adequacy standards for insured state nonmember banks, state savings associations, and certain subsidiaries of those entities. The data is used by the FDIC to evaluate capital before approving various applications by insured depository institutions, to evaluate capital as an essential component in determining safety and soundness, and to determine whether an institution is subject to prompt corrective action provisions. In addition, the Regulatory Capital Rule: Temporary Exclusion of U.S. Treasury Securities and Deposits at Federal Reserve Banks from the Supplementary Leverage Ratio for Depository Institutions, 85 FR 32980 (June 1, 2020) added a new opt-in provision in 12 CFR 324.304 for the temporary exclusion from the total leverage ratio. The new opt-in provision accounts for a slight increase of 84 burden hours.

After factoring in the slight increase in burden hours as a result of the new opt-in provision, along with the changes to the respondent count as a result of economic fluctuation, the information collection is reduced overall by 7,800 hours. Outside of the new opt-in provision, the hours per response and frequency of responses for the rest of the information collection have remained the same.

Request for Comment: Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on October 27, 2020.
James P. Sheesley,
Assistant Executive Secretary.

[FR Doc. 2020-24074 Filed 10-29-20; 8:45 am]

BILLING CODE 6714-01-P